DEPARTMENT OF TRANSPORTATION

Federal Aviation Administration

Notice of Availability of a Final Environmental Impact Statement (EIS) for the Proposed LaGuardia Access Improvement Project at LaGuardia Airport (LGA), New York City, Queens County, New York

AGENCY: Federal Aviation Administration (FAA), Department of Transportation (DOT).

ACTION: Notice of availability of a Final Environmental Impact Statement.

SUMMARY: The FAA is issuing this notice under the provisions of the National Environmental Policy Act (NEPA) of 1969, as amended, to announce the availability of the Final Environmental Impact Statement (EIS) for the proposed LaGuardia Airport (LGA) Access Improvement Project and its connected actions (the Proposed Action). The Proposed Action would provide direct access between LGA and the Metropolitan Transportation Authority (MTA) Long Island Rail Road (LIRR) Mets-Willets Point Station and the New York City Transit (NYCT) 7 Line Mets-Willets Point Station. FAA is the lead federal agency in the preparation of the EIS, with cooperating agencies including National Park Service (U.S. Department of the Interior); U.S. Army Corps of Engineers; U.S. Environmental Protection Agency; New York State Department of Environmental Conservation; New York State Department of Transportation; and New York State Office of Parks, Recreation and Historic Preservation. The Final EIS was prepared to disclose the potential environmental impacts resulting from the Proposed Action, including real property transactions under the New York State Eminent Domain Procedures Law. The Final EIS is available for download on the project website at https://www.lgaaccesseis.com.

FOR FURTHER INFORMATION CONTACT: Mr. Andrew Brooks, Environmental Program Manager, Eastern Regional Office, AEA-610, Federal Aviation Administration, 1 Aviation Plaza, Jamaica, NY 11434. Telephone: 718-553-2511.

SUPPLEMENTARY INFORMATION: This notice continues the EIS process announced in the Notice of Intent To Prepare an Environmental Impact Statement (EIS) and Initiate Section 106 Consultation for the Proposed LaGuardia Access Improvement Project at LaGuardia Airport (LGA), New York City, Queens County, New York, 84 FR 19151, May 3, 2019, follows meetings associated with the EIS announced in the Notice of Public Information Sessions on Alternatives Analysis for the Proposed LaGuardia Airport Access Improvement Project at LaGuardia Airport (LGA), New York City, Queens County, New York, 84 FR 66438, December 4, 2019, and follows release of the Draft EIS, which was made available for agency and public review as announced in the Notice of Availability of a Draft Environmental Impact Statement (EIS) and Notice of Public Workshops and Hearings for the Proposed LaGuardia Access Improvement Project at LaGuardia Airport (LGA), New York City, Queens County, New York 85 FR 51142, August 19, 2020.

This EIS was prepared in response to a proposal presented by the Port Authority of New York and New Jersey (Port Authority). The Port Authority operates LGA under a lease agreement with the City of New York. FAA must decide whether to approve, pursuant to 49 U.S.C. 47106 and 47107 relating to the eligibility of the Proposed Action for federal funding under the Airport Improvement Program (AIP) and/or under 49 U.S.C. 40117, as implemented by 14 CFR 158.25, to impose and use passenger facility charge (PFC) revenue collected for the Proposed Action to assist with construction of potentially eligible development items shown on the Airport Layout Plan (ALP). FAA approval of the eligibility for federal funding under AIP or to impose and use PFCs is a Federal action that must comply with NEPA requirements. The Port has indicated it intends to submit an application to impose and use PFCs, and this EIS was prepared in order to inform the environmental determinations required as part of such an application. FAA, as lead federal agency, invited the U.S. Army Corps of Engineers; U.S. Environmental Protection Agency; New York State Department of Environmental Conservation; New York State Department of Transportation; and New York State Office of Parks, Recreation and Historic Preservation to participate as cooperating agencies, as described under 40 CFR 1501.6(a)(1), and the agencies accepted. Subsequent to release of the Draft EIS, the National Park Service (U.S. Department of the Interior) requested to become a cooperating agency, and FAA accepted this request.

The Final EIS presents the purpose and need for the Proposed Action, analysis of reasonable alternatives, discussion of impacts for each reasonable alternative, comments received on the Draft EIS, responses to comments received on the Draft EIS, and supporting appendices. The Proposed Action includes:

• Construction of an above ground fixed guideway automated people mover (APM) system approximately 2.3 miles in length that extends from the LGA Central Hall Building under construction to the Mets-Willets Point LIRR and NYC Transit 7 Line Stations;

• construction of two on-Airport APM stations (Central Hall APM Station and East APM Station) and one off-Airport APM station at Willets Point (Willets Point APM Station) that provides connections to the Mets-Willets Point LIRR and 7 Line stations;

• construction of passenger walkway systems to connect the APM stations to the passenger terminals, parking garages, and ground transportation facilities;

• construction of a multi-level APM operations, maintenance, and storage facility (OMSF) that includes up to 1,000 parking spaces (500 for airport employees, 250 for MTA employees, 50 for APM employees, and 200 for replacement Citi Field parking);

• construction of three traction power substations to provide power to the APM guideway: One located at the on-Airport East Station, another at-grade west of the proposed Willets Point Station just south of Roosevelt Avenue, and the third at the OMSF;

• construction of a 27kV main substation located adjacent to the OMSF structure on MTA property;

• construction of utilities infrastructure, both new and modified, as needed, to support the Proposed Action, including a permanent stormwater outfall into Flushing Creek and a temporary stormwater outfall into Flushing Creek; and

• acquisition of temporary and permanent easements; no private property would be acquired.

The Proposed Action also includes various connected actions, including: Utility relocation and demolition of certain existing facilities; a temporary MTA bus storage/parking facility; relocation of up to 200 Citi Field parking spaces; demolition and replacement of the Passerelle Bridge; temporary walkway to maintain access between the transit stations and Flushing Meadows-Corona Park; modifications to the Mets-Willets Point LIRR Station, including new shuttle service on the LIRR Port Washington Line; and the relocation of several World's Fair Marina facilities, including a boat lift, finger piers and connected timber floating dock, Marina office and boatyard facility, boat storage and parking, and operations shed.

FAA provides the following notices:

• Pursuant to 36 CFR 800.8(c) that it used the NEPA process to notify the public of FAA's finding that the proposed undertaking would adversely affect properties listed or eligible for listing on the National Register of Historic Places. An executed Memorandum of Agreement to resolve adverse effects to historic properties is included in Appendix K.13 of the Final EIS.

• Pursuant to Section 4(f) of the DOT Act and Section 6(f) of the Land and Water Conservation Fund (LWCF) Act, FAA has prepared a Final Section 4(f) and Section 6(f) Evaluation (see Appendix I of the Final EIS). The Proposed Action would have a significant impact on Section 4(f) resources and would require the conversion of approximately 0.5 acres of LWCF-obligated property, and a temporary non-conforming use of approximately 1.2 acres of LWCF-obligated property. These impacts and proposed mitigation are disclosed in Chapter 3.8 and Appendix I of the Final EIS.

• Pursuant to DOT Order 5610.2(b), DOT Actions to Address Environmental Justice in Minority Populations and Low-Income Populations, the Proposed Action would have a significant impact on minority environmental justice populations. These impacts and proposed mitigation are disclosed in Chapter 3.14 of the Final EIS.

• Pursuant to Executive Order 11990, Protection of Wetlands, that the Proposed Action would temporarily affect less than 1 acre of jurisdictional wetlands in Flushing Creek and less than 1 acre of temporary and permanent impacts in Flushing Bay. Impacts to these aquatic resources and proposed mitigation are disclosed in Chapter 3.16 of the Final EIS.

• Pursuant to Executive Order 11988, Floodplain Management that the Proposed Action would not result in a significant encroachment on floodplains. Impacts to floodplains are disclosed in Chapter 3.16 of the Final EIS.

Following a 30-day wait period, FAA may issue Record of Decision pursuant to 40 CFR 1503.4(c) [Council of Environmental Quality regulations] and FAA Orders 1050.1F and 5050.4B. FAA and the National Park Service (U.S. Department of Interior) may prepare a joint Record of Decision.

Issued in Jamaica, New York, March 12, 2021.
Evelyn Martinez,
Manager, New York Airports District Office, Airports Division, Eastern Region.

[FR Doc. 2021-05576 Filed 3-17-21; 8:45 am]

BILLING CODE 4910-13-P